DEPARTMENT OF HEALTH AND HUMAN SERVICES

Centers for Disease Control and Prevention

Disease, Disability, and Injury Prevention and Control Special Emphasis Panels (SEP): HIV IV—Rapid Test Algorithms for Diagnosis of HIV Infection and Improved Linkage to Care, Program Announcement Number (PA) PS06-002.

In accordance with Section 10(a)(2) of the Federal Advisory Committee Act (Pub. L. 92-463), the Centers for Disease Control and Prevention (CDC) announces the following meeting:

Name: Disease, Disability, and Injury Prevention and Control Special Emphasis Panel (SEP): HIV IV—Rapid Test Algorithms for Diagnosis of HIV Infection and Improved Linkage to Care, PA PS06-002.

Time and Date: 12 p.m.-5 p.m., June 23, 2006 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to “HIV IV—Rapid Test Algorithms for Diagnosis of HIV Infection and Improved Linkage to Care, PA PS06-002.”

For Further Information Contact: Jim Newhall, PhD, Scientific Review Administrator, Office of Public Health Research, CDC, 1600 Clifton Road NE, Mailstop D72, Atlanta, GA 30333, Telephone 404-639-4641.

The Director, Management Analysis and Services Office, has been delegated the authority to sign Federal Register notices pertaining to announcements of meetings and other committee management activities, for both CDC and the Agency for Toxic Substances and Disease Registry.

Dated: May 24, 2006.
Alvin Hall,
Director, Management Analysis and Services Office, Centers for Disease Control and Prevention.

[FR Doc. E6-8346 Filed 5-30-06; 8:45 am]

BILLING CODE 4163-18-P